DEPARTMENT OF TRANSPORTATION

Surface Transportation Board

[STB Finance Docket No. 34741]

KWT Railway, Inc.—Lease and Operation Exemption—Murray-Calloway County Economic Development Corporation

KWT Railway, Inc. (KWT), a Class III rail carrier, has filed a verified notice of exemption under 49 CFR 1150.41 to lease and operate approximately one mile of rail line. The line is being leased from Murray-Calloway County Economic Development Corporation (EDC) and runs between milepost 38.34 and approximately milepost 37.34 near Murray, in Calloway County, KY.¹

¹ This transaction is related to STB Finance Docket No. 34742, Murray-Calloway County Economic Development Corporation—Acquisition Exemption—Hardin Southern Railroad, Inc., wherein EDC, a noncarrier, has filed a notice of exemption to acquire by purchase from Hardin Southern Railroad, Inc. an 8.34-mile rail line between milepost 38.34 near Murray and milepost 30, near Hardin, Ky. That exemption was effective on August 15, 2005.

KWT certifies that its projected revenues as a result of the transaction will not result in the creation of a Class II or Class I rail carrier, and further certifies that its projected annual revenues will not exceed $5 million.

The transaction was scheduled to be consummated on or after September 1, 2005.

If the notice contains false or misleading information, the exemption is void ab initio. Petitions to revoke the exemption under 49 U.S.C. 10502(d) may be filed at any time. The filing of a petition to revoke will not automatically stay the transaction.

An original and 10 copies of all pleadings, referring to STB Finance Docket No. 34741, must be filed with the Surface Transportation Board, 1925 K Street, NW., Washington, DC 20423-0001. In addition, one copy of each pleading must be served on Eric M. Hocky, Four Penn Center, Suite 200, 1600 John F. Kennedy Blvd., Philadelphia, PA 19103-2808.

Board decisions and notices are available on our Web site at http://www.stb.dot.gov.

Decided: September 14, 2005.
By the Board, David M. Konschnik, Director, Office of Proceedings.
Vernon A. Williams,
Secretary.

[FR Doc. 05-18842 Filed 9-22-05; 8:45 am]

BILLING CODE 4915-01-P